DEPARTMENT OF ENERGY

Federal Energy Regulatory Commission

Combined Notice of Filings #1

Take notice that the Commission received the following exempt wholesale generator filings:

Docket Numbers: EG12-96-000.

Applicants: NRG Solar Borrego I LLC.

Description: Self-Certification of EG of NRG Solar Borrego I LLC.

Filed Date: 8/3/12.

Accession Number: 20120803-5081.

Comments Due: 5 p.m. ET 8/24/12.

Take notice that the Commission received the following electric rate filings:

Docket Numbers: ER12-2399-000.

Applicants: PJM Interconnection, L.L.C., American Transmission Systems, Incorporation.

Description: First Energy submits revised PJM OATT Attachments M-1 & M-2 (FirstEnergy Zones) to be effective 6/1/2012.

Filed Date: 8/3/12.

Accession Number: 20120803-5082.

Comments Due: 5 p.m. ET 8/24/12.

Docket Numbers: ER12-2400-000.

Applicants: Liberty Power District of Columbia LLC.

Description: Amendments to Market-Based Rate Tariff in Compliance with Order No. 697 to be effective 8/6/2012.

Filed Date: 8/3/12.

Accession Number: 20120803-5083.

Comments Due: 5 p.m. ET 8/24/12.

Docket Numbers: ER12-2401-000.

Applicants: Liberty Power Delaware LLC.

Description: Amendments to Market-Based Rate Tariff in Compliance with Order No. 697 to be effective 8/6/2012.

Filed Date: 8/3/12.

Accession Number: 20120803-5084.

Comments Due: 5 p.m. ET 8/24/12.

Docket Numbers: ER12-2402-000.

Applicants: Liberty Power Maryland LLC.

Description: Amendments to Market-Based Rate Tariff in Compliance with Order No. 697 to be effective 8/6/2012.

Filed Date: 8/3/12.

Accession Number: 20120803-5085.

Comments Due: 5 p.m. ET 8/24/12.

Docket Numbers: ER12-2403-000.

Applicants: Liberty Power Holdings LLC.

Description: Amendments to Market-Based Rate Tariff in Compliance with Order No. 697 to be effective 8/6/2012.

Filed Date: 8/3/12.

Accession Number: 20120803-5086.

Comments Due: 5 p.m. ET 8/24/12.

Docket Numbers: ER12-2404-000.

Applicants: Public Service Company of Colorado.

Description: 2012-8-3_TSGT DAVIS SS E&P 329 to be effective 7/9/2012.

Filed Date: 8/3/12.

Accession Number: 20120803-5087.

Comments Due: 5 p.m. ET 8/24/12.

Docket Numbers: ER12-2405-000.

Applicants: Helvetia Solar, LLC.

Description: Helvetia Solar, LLC MBR Tariff to be effective 9/2/2012.

Filed Date: 8/3/12.

Accession Number: 20120803-5088.

Comments Due: 5 p.m. ET 8/24/12.

Docket Numbers: ER12-2406-000.

Applicants: AEP Generating Company.

Description: AEP Generating Company RS and SA Tariff to be effective 8/3/2012.

Filed Date: 8/3/12.

Accession Number: 20120803-5111.

Comments Due: 5 p.m. ET 8/24/12.

Docket Numbers: ER12-2407-000.

Applicants: Massachusetts Electric Company.

Description: Service Agreement Rider Between Massachusetts Electric Co. and General Electric to be effective 3/5/2011.

Filed Date: 8/3/12.

Accession Number: 20120803-5112.

Comments Due: 5 p.m. ET 8/24/12.

Take notice that the Commission received the following land acquisition reports:

Docket Numbers: LA11-4-000.

Applicants: CalPeak Power LLC, CalPeak Power-Panoche LLC, CalPeak Power-Vaca Dixon LLC, CalPeak Power-Enterprise LLC, CalPeak Power-Border LLC, Starwood Power-Midway, LLC.

Description: Quarterly Land Acquisition Report of CalPeak Power LLC, et al.

Filed Date: 8/3/12.

Accession Number: 20120803-5114.

Comments Due: 5 p.m. ET 8/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2012.
Nathaniel J. Davis, Sr.,
Deputy Secretary.

[FR Doc. 2012-19855 Filed 8-13-12; 8:45 am]

BILLING CODE 6717-01-P